DEPARTMENT OF AGRICULTURE

Office of the Chief Financial Officer

Notice of Intent To Extend and Revise a Currently Approved Information Collection

AGENCY: Office of the Chief Financial Officer, USDA.

ACTION: Notice and request for comments.

SUMMARY: This notice announces the intention of the Office of the Chief Financial Officer to request the renewal and revision of a currently approved information collection (OMB No. 0505-0025) associated with (1) Representations Regarding Felony Conviction and Tax Delinquent Status For Corporate Applicants and (2) Assurance Regarding Felony Conviction or Tax Delinquent Status For Corporate Applicants. The assurance information collection is no longer used.

DATES: Comments on this notice must be received by May 9, 2022 to be assured of consideration.

ADDRESSES: Comments may be submitted by either of the following methods:

• Federal eRulemaking Portal: This website permits short comments in a comment field on the web page or file attachments for lengthier comments. Go to https://www.regulations.gov for instructions.

• Postal Mail/Commercial Delivery: Attention: Tyson P. Whitney, Director, Transparency and Accountability Reporting Division, Office of the Chief Financial Officer, Room 3027-S, Mail Stop 9011, U.S. Department of Agriculture, 1400 Independence Avenue SW, Washington, DC 20250; tyson.whitney@usda.gov.

All comments will be available for public inspection and posted without change, including any personal information, to https://www.regulations.gov. Out of an abundance of caution for USDA employees and the public, onsite review is closed, with limited exceptions, to reduce the risk of COVID-19 transmission. However, remote customer service will continue via email at the contact information cited above. The public is encouraged to submit comments via https://www.regulations.gov or email, as there may be a delay in processing mail. Hand deliveries and couriers may be received by scheduled appointment only.

FOR FURTHER INFORMATION CONTACT: Tyson P. Whitney, Director, Transparency and Accountability Reporting Division, Office of the Chief Financial Officer, Room 3027-S, Mail Stop 9011, U.S. Department of Agriculture, 1400 Independence Avenue SW, Washington, DC 20250; 202-720-8978, tyson.whitney@usda.gov.

SUPPLEMENTARY INFORMATION: In accordance with the Paperwork Reduction Act of 1995 (44 U.S.C. chapter 35) and Office of Management and Budget (OMB) regulations at 5 CFR part 1320, this notice announces the intention of the USDA Office of the Chief Financial Officer to request the renewal of a currently approved information collection (OMB No. 0505-0025) associated with (1) Representations Regarding Felony Conviction and Tax Delinquent Status For Corporate Applicants and (2) Assurance Regarding Felony Conviction or Tax Delinquent Status For Corporate Applicants. The assurance information collection is no longer used.

Title: (1) Representations Regarding Felony Conviction and Tax Delinquent Status For Corporate Clients and (2) Assurance Regarding Felony Conviction or Tax Delinquent Status For Corporate Applicants (no longer used).

OMB Number: 0505-0025.

Expiration Date of Current Approval: June 30, 2022.

Type of Request: Intent to extend and revise a currently approved information collection for three years.

Abstract: The U.S. Department of Agriculture's (USDA) agencies and staff offices must comply with the restrictions set forth in sections 744 and 745 of the Consolidated Appropriations Act, 2021, Public Law 116-260, as amended and/or subsequently enacted, hereinafter Public Law 116-260, which prevents agencies from doing business with corporations that (1) have been convicted of a felony criminal violation under Federal law within 24 months preceding the award and/or (2) have any unpaid Federal tax liability that has been assessed, for which all judicial administrative remedies have been exhausted or have lapsed, and that is not being paid in a timely manner pursuant to an agreement with the authority responsible for collecting the tax liability; unless the agency or staff office has considered suspension or debarment of the recipient corporation and made a determination that suspension or debarment is not necessary to protect the interests of the Government.

To comply with the appropriation restrictions, the information collection requires corporate applicants for USDA programs to represent accurately if they have or do not have qualifying felony convictions or tax delinquencies that would prevent entrance into proposed business transactions with USDA. For nonprocurement programs and transactions, these representations are collected on Form AD-3030 (Representations Regarding Felony Conviction and Tax Delinquent Status For Corporate Applicants. This notice and proposed renewal of an approved information collection deal only with USDA nonprocurement transactions. The categories of nonprocurement transactions covered include: Nonprocurement contracts, grants, loans, loan guarantees, cooperative agreements, and some memoranda of understanding/agreement. For more specific information about whether a particular nonprocurement program or transaction is included in this list please contact the USDA agency or staff office responsible for the program or transaction in question.

The representations continue to be required as reflected in Public Law 116-260. To ensure that USDA agencies and staff offices are positioned to continue compliance with the appropriation restrictions for their duration, the Office of the Chief Financial Officer is issuing this renewal approval notice for another formal three-year clearance of the information collection request. Should the appropriation restrictions become ineffective or not be continued during the three-year clearance period, this information request will be canceled when it is no longer required. This information is also captured in the General Services Administration's System for Award Management general certification and representation process.

Form AD-3030 (required during the application process) prompts compliance with the appropriation restrictions by requiring all corporate applicants to represent, at the time of application for a nonprocurement program, whether or not they have any felony convictions or tax delinquencies that would prevent USDA from doing business with them. Form AD-3031 (applicable at the time of the award) required an affirmative representation that corporate awardees for nonprocurement transactions do not have any felony convictions or tax delinquencies. It is no longer used. Corporations (for profit and non-profit entities) include, but are not limited to, any entity that has filed articles of incorporation in one of the 50 States, the District of Columbia, or the various territories of the United States.

Collection of this information is necessary to ensure that USDA agencies and staff offices comply with the appropriation restrictions prohibiting the Government from doing business with corporations with felony convictions and/or tax delinquencies.

Estimate of Burden: Public reporting burden for this total collection of information is estimated to average 0.25 hours per response per individual form. This burden is assumed for both forms.

Frequency of Collection: Other: Corporations—AD-3030—each time they apply to participate in a multitude of USDA nonprocurement programs.

Type of Respondents: Corporate applicants for USDA nonprocurement programs, including grants, cooperative agreements, loans, loan guarantees, some memoranda of understanding/agreement, and nonprocurement contracts.

Estimated Number of Annual Respondents: 75,580.

Estimated Number of Responses per Respondent: 2.

Estimated Total Annual Burden on Respondents: 37,790.

Form | Number of respondents | Number of responses per respondent | Number of responses | Average time to prepare (hrs) | Total annual burden on respondents (hrs)
AD-3030 | 75,580 | 2 | 151,160 | 0.25 | 37,790
Total | 75,580 | 2 | 151,160 | 0.25 | 37,790

Comments from interested parties are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this notice will be summarized and included in the request for OMB approval.

Tyson P. Whitney,
Director, Transparency and Accountability Reporting Division.

[FR Doc. 2022-04842 Filed 3-7-22; 8:45 am]

BILLING CODE 3410-KS-P